DEPARTMENT OF THE INTERIOR

Fish and Wildlife Service

[FWS-HQ-ES-2018-N019; FXHC11220900000-167-FF09E33000; OMB Control Number 1018-0148]

Agency Information Collection Activities; Submission to the Office of Management and Budget for Review and Approval; Land-Based Wind Energy Guidelines

AGENCY: Fish and Wildlife Service, Interior.

ACTION: Notice of information collection; request for comment.

SUMMARY: In accordance with the Paperwork Reduction Act of 1995, we, the U.S. Fish and Wildlife Service, are proposing to revise an existing information collection.

DATES: Interested persons are invited to submit comments on or before April 23, 2018.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0148 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 10, 2017 (82 FR 47021). The following comment was received:

Comment #1: Received from Michael Speerschneider, Senior Director, Permitting Policy and Environmental Affairs, and Gene Grace, Senior Counsel, American Wind Energy Association, on December 11, 2017, via email.

The American Wind Energy Association (AWEA) comments were limited to the accuracy of the estimate of the burden for the collection of information detailed therein. They provided the Service with an estimate of the paperwork and respondent burden required for the wind industry to collect the data associated with the voluntary Land-Based Wind Energy Guidelines (“Guidelines”) on a per project basis. Based on a survey of their member companies involved in the development of wind energy facilities, they believe the updated estimates are a more accurate reflection of the work necessary to adhere to the Guidelines, and respectfully requested that the Service utilize this estimate, combined with other assumed costs (e.g., government agency costs) in this and any other analysis of the Guidelines going forward. Rather than have individual companies submit their respective data with respect to the estimate burden hours related to the Guidelines, AWEA submitted aggregated data and, therefore, chose not to include identifying information for any of their members that supplied the data.

FWS Response to Comment #1: The Service thanks AWEA for the useful comments that they provided on this information collection, and specifically on the estimate of the burden hours and expenditures necessary to adhere to the voluntary Guidelines. We used this information to update the estimated burden, noting that there are significant differences between the Service's burden estimate developed several years ago, and AWEA's current estimate. We assume that these differences are a reflection of the wide range and variability in the size and degree of complexity of commercial-scale wind energy projects, and that changes in cost reflect that variability. We attempted to obtain further clarification and feedback from AWEA on that presumption but received no response.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: As wind energy production increased, both developers and wildlife agencies recognized the need for a system to evaluate and address the potential negative impacts of wind energy projects on species of concern. As a result, the Service worked with the wind energy industry, conservation nongovernmental organizations, Federal and State agencies, Tribes, and academia to develop the voluntary Land-Based Wind Energy Guidelines (Guidelines; http://www.fws.gov/windenergy) to provide a structured, scientific process for addressing wildlife conservation concerns at all stages of land-based wind energy development. Released in 2012, the Guidelines promote effective communication among wind energy developers and Federal, State, Tribal, and local conservation agencies. When used in concert with appropriate regulatory tools, the Guidelines are the best practical approach for conserving species of concern.

The Guidelines discuss various risks to species of concern from wind energy projects, including collisions with wind turbines and associated infrastructure; loss and degradation of habitat from turbines and infrastructure; fragmentation of large habitat blocks into smaller segments that may not support sensitive species; displacement and behavioral changes; and indirect effects such as increased predator populations or introduction of invasive plants. The Guidelines assist developers in identifying species of concern that may potentially be affected by proposed projects, including but not limited to:

• Migratory birds;

• Bats;

• Bald and golden eagles, and other birds of prey;

• Prairie chickens and sage grouse; and

• Species that have been identified as candidates, or proposed or listed under the Endangered Species Act of 1973, as amended (16 U.S.C. 1531 et seq.).

The Guidelines follow a tiered approach. The wind energy developer begins at Tier 1 or Tier 2, which entails gathering of existing data to help identify any potential risks to wildlife and their habitats at proposed wind energy project sites. The developer then proceeds through subsequent tiers, as appropriate, to collect information in increasing detail until the level of risk is adequately ascertained and a decision on whether or not to develop the site can be made. Many projects may not proceed beyond Tier 1 or 2, when developers become aware of potential barriers, including high risks to wildlife. Developers would only have an interest in adhering to the Guidelines for those projects that proceed beyond Tier 1 or 2.

At each tier, wind energy developers and operators should retain documentation to provide to the Service. Such documentation may include copies of correspondence with the Service, results of pre- and post-construction studies conducted at project sites, bird and bat conservation strategies, or any other record that supports a developer's adherence to the Guidelines. The extent of the documentation will depend on the conditions of the site being developed. Sites with greater risk of impacts to wildlife and habitats will likely involve more extensive communication with the Service and longer durations of pre- and post-construction studies than sites with little risk.

Distributed or community-scale wind energy projects are unlikely to have significant adverse impacts to wildlife and their habitats. The Guidelines recommend that developers of these small-scale projects conduct the desktop analysis described in Tier 1 or Tier 2 using publicly available information to determine whether they should communicate with the Service. Since such project designs usually include a single turbine associated with existing development, conducting a Tier 1 or Tier 2 analysis for distributed or community-scale wind energy projects should incur limited non-hour burden costs. For such projects, if there is no potential risk identified, a developer will have no need to communicate with the Service regarding the project or to conduct studies described in Tiers 3, 4, and 5.

Adherence to the Guidelines is voluntary. Following the Guidelines does not relieve any individual, company, or agency of the responsibility to comply with applicable laws and regulations (i.e., species protected by the Endangered Species Act and/or Bald and Golden Eagle Protection Act (16 U.S.C. 668-668c)).

Title of Collection: Land-Based Wind Energy Guidelines.

OMB Control Number: 1018-0148.

Form Number: None.

Type of Review: Revision of a currently approved collection.

Respondents/Affected Public: Developers and operators of wind energy facilities.

Total Estimated Number of Annual Respondents: 160.

Total Estimated Number of Annual Responses: 160.

Estimated Completion Time per Response: Varies from 1 hour to 3,600 hours, depending on activity.

Total Estimated Number of Annual Burden Hours: 282,995.

Respondent's Obligation: Voluntary.

Frequency of Collection: On occasion.

Total Estimated Annual Nonhour Burden Cost: $36,870,000. Costs will depend on the size and complexity of issues associated with each project. These expenses may include, but are not limited to: Travel expenses for site visits, studies conducted, and meetings with the Service and other Federal and State agencies; training in survey methodologies; data management; special transportation, such as all-terrain vehicles or helicopters; equipment needed for acoustic, telemetry, or radar monitoring; and carcass storage.

Requirement | Annual number of respondents | Number of responses each | Total annual responses | Completion time per response (hours) | Total annual burden hours
Tier 1 (Desktop Analysis)
Reporting | 40 | 1 | 40 | 25 | 1,000
Recordkeeping |  |  |  | 1 | 40
Tier 2 (Site Characterization)
Reporting | 35 | 1 | 35 | 155 | 5,425
Recordkeeping |  |  |  | 3 | 105
Tier 3 (Pre-construction studies)
Reporting | 30 | 1 | 30 | 3,100 | 93,000
Recordkeeping |  |  |  | 5 | 150
Tier 4 (Post-construction fatality monitoring and habitat studies)
Reporting | 45 | 1 | 45 | 3,600 | 162,000
Recordkeeping |  |  |  | 5 | 225
Tier 5 (Other post-construction studies)
Reporting | 10 | 1 | 10 | 2,100 | 21,000
Recordkeeping |  |  |  | 5 | 50
Totals | 160 |  | 160 |  | 282,995

An agency may not conduct or sponsor and a person is not required to respond to a collection of information unless it displays a currently valid OMB control number.

The authority for this action is the Paperwork Reduction Act of 1995 (44 U.S.C. 3501 et seq.).

Dated: March 20, 2018.
Madonna L. Baucum,
Information Collection Clearance Officer, U.S. Fish and Wildlife Service.

[FR Doc. 2018-05931 Filed 3-22-18; 8:45 am]

BILLING CODE 4333-15-P